DEPARTMENT OF THE INTERIOR

National Park Service

National Register of Historic Places; Notification of Pending Nominations

Nominations for the following properties being considered for listing in the National Register were received by the National Park Service before July 15, 2000. Pursuant to § 60.13 of 36 CFR part 60 written comments concerning the significance of these properties under the National Register criteria for evaluation may be forwarded to the National Register, National Park Service, 1849 C St. NW, NC400, Washington, DC 20240. Written comments should be submitted by August 9, 2000.

Patrick W. Andrus,
Acting Keeper of the National Register.

ARKANSAS

Pulaski County

Park Hill Historic District, Roughly bounded by Plainview Circle, Crestview Blvd., Ridge St. and H Ave., Pulaski, 00000935

COLORADO

Larimer County

First National Bank Building, 3728 Cleveland Ave., Wellington, 00000937

Prowers County

Petticrew Stage Stop, Address Restricted, Lamar, 00000936

CONNECTICUT

Fairfield County

Norwalk Lock Company Factory, 18 Marshall St., Norwalk, 00000939

Litchfield County

Rye House, 122-132 Old Mount Tom Rd., Litchfield, 00000940

Tolland County

Eldredge Mills Archeological District, Address Restricted, Willington, 00000938

FLORIDA

St. Lucie County

St. Anastasia Catholic School, Old, 910 Orange Ave., Fort Pierce, 00000941

ILLINOIS

Cook County

American State Bank, 6801 Cermak Rd., Berwyn, 00000951

Buckingham Building, 59-67 E. Van Buren St., Chicago, 00000942

Noble-Seymour-Crippen House, 5622-5624 N. Newark Ave., Chicago, 00000950

Lake County

Leonard, Clifford Milton, Farm, 550, 561, 565, 570, 575, 579 Hathaway Circle, Lake Forest, 00000944

Morse, Robert Hosmer, House, 1301 Knollwood Circle, Lake Forest, 00000947

Morgan County

Jacksonville Public Library, (Illinois Carnegie Libraries MPS) 201 W. College Ave., Jacksonville, 00000953

Perry County

Perry County Jail, 108 W. Jackson St., Pickneyville, 00000943

Sangamon County

Bretz, John F., House and Warehouse, 113 N. Fifth St., Springfield, 00000945

Shelby County

Clarksburg Schoolhouse, Clarksburg Rd. 1 mi. E of Cty Rd. 800 N/2025 E, Clarksburg, 00000952

Stephenson County

Ritzman, William, House, 10715 IL 26 N, Orangeville, 00000949

Winnebago County

Brown, William, Building, 226-228 S. Main St., Rockford, 00000946

Illinois National Guard Armory, 605 N. Main St., Rockford, 00000948

IOWA

Adams County

Odell, Noah, House, 1245 240th St., Nodaway, 00000917

Allamakee County

Turner Hall, 119 E. Greene St., Postville, 00000921

Cedar County

Kreinbring Phillips 66 Gas Station, 200 Main St., Lowden, 00000933

Clinton County

Helvig—Olson Farm Historic District, (Norwegian Related Resources of Olive Township, Clinton County, Iowa MPS) 2008 260th St., Grand Mound, 00000924

Johnson, George, House, (Norwegian Related Resources of Olive Township, Clinton County, Iowa MPS) 2566 190th Ave., Calamus, 00000923

Kvindherred Lutheran Church, School and Cemetery, (Norwegian Related Resources of Olive Township, Clinton County, Iowa MPS) 2589 190th Ave., Calamus, 00000922

Johnson County

Bethel AME Church, 411 S. Governor St., Iowa City, 00000925

Linn County

Second and Third Avenue Historic District, (Cedar Rapids, Iowa MPS) 1400 to 1800 blks of Second Ave. SE and Third Ave. SE, Cedar Rapids, 00000926

Polk County

Goddard Bungalow Court Historic District, (Bungalow, The, and Square House—Des Moines Residential Growth and Development MPS) 1410-21 Goddard Court, 1232 14th St., Des Moines, 00000930

Ingersoll Place Plat Historic District, (Bungalow, The, and Square House—Des Moines Residential Growth and Development MPS) 28th St., Linden and High Sts., Des Moines, 00000931

Kingman Place Historic District, (Bungalow, The, and Square House—Des Moines Residential Growth and Development MPS) 27th to 31st Sts., Kingman Blvd., Rutland St. and Cottage Ave., Des Moines, 00000928

Middlesex Plat Historic District, (Bungalow, The, and Square House—Des Moines Residential Growth and Development MPS) Center St. to Woodland Ave., 31st to 35th Sts., Des Moines, 00000932

Veneman's Bungalow Court Historic District, (Bungalow, The, and Square House—Des Moines Residential Growth and Development MPS)

1101-115 Droukas Court, 1228, 1232 E. 12th St., Des Moines, 00000929

Woodland Place Historic District, (Bungalow, The, and Square House—Des Moines Residential Growth and Development MPS) 25th to 27th St. to Woodland Ave., De Moines, 00000927

Tama County

Conant's Cabin and Park, IA 96, 3 mi. W of Gladbrook, Gladbrook, 00000920

Wapello County

Dahlonega School #1, Cty. Rd. H25, 2 mi. NE of Ottumwa, Ottumwa, 00000934

Woodbury County

Bruguier, Theophile, Cabin, Riverside Park, Sioux City, 00000918

New Orpheum Theatre, 520-28 Pierce St., Sioux City, 00000919

KENTUCKY

Boone County

Blankenbecker—Riley Farm, (Boone County, Kentucky MPS) 2788 Hathaway Rd., Union, 00000907

Chamber, Robert, House, (Boone County, Kentucky MPS) 118 Chambers Rd., Walton, 00000906

Chambers, C. Scott, House and Funeral Parlor, (Boone County, Kentucky MPS) 111 N. Main St., Walton, 00000911

Clore, Jonas, Log House, (Boone County, Kentucky MPS) 9293 E. Bend Rd., Burlington, 00000910

George—Vest House, (Boone County, Kentucky MPS) 13815 Walton-Verona Rd., Verona, 00000913

Glore, William Milburn, House, (Boone County, Kentucky MPS) 11682 Big Bone-Union Rd., Union, 00000904

Goodridge, Virginia Corey, House, (Boone County, Kentucky MPS) 259 Main St., Florence, 00000902

Gregory, Peter, House, (Boone County, Kentucky MPS) 5063 Beaver Rd., Union, 00000905

Huey, Thomas, Farm, (Boone County, Kentucky MPS) 10492 Big Bone Rd., Union, 00000900

Jenkins—Berkshire House, (Boone County, Kentucky MPS) 6529 Mill St., Petersburg, 00000908

Rogers, Boone Fowler, Barn, (Boone County, Kentucky MPS) 5394 Belleview Rd., Petersburg, 00000901

Stevenson, Dr. John E., House, (Boone County, Kentucky MPS) 3422 Beaver Rd., Union, 00000912

Verona High School, (Boone County, Kentucky MPS) 14923 Walton—Verona Rd., Verona, 00000909

Williams, Caroline, Log House, (Boone County, Kentucky MPS) 3650 Burlington Pike, Burlington, 00000903

Jessamine County

Avon Stock Farm, 6289 Haroodsburg Rd., Nicholasville, 00000954

MASSACHUSETTS

Barnstable County

West Dennis Graded School, 67 School St., Dennis, 00000957

Bristol County

Buttonwood Park Historic District, Kempton St., Rockdale Ave., Hawthorne St. and Brownell Ave., New Bedford, 00000915

Essex County

Rollins, John R., School, 451 Howard St., Lawrence, 00000956

Middlesex County

Wilson, Henry, Shoe Shop, 181 W. Central St., Natick, 00000955

NEW JERSEY

Morris County

Tempe Wick Road—Washington Corners Historic District, Corey Ln., Cemetery Rd., Tempe Wick, Kennaday, Leddell, and Jockey Hollow Rds., Harding, 00000959

Somerset County

Higginsville Road Bridges, (Metal Truss Bridges in Somerset County MPS) Higginsville Rd., at the South Branch of the Raritan River, Hillsborough, 00000916

Maplewood, Burnt Hill Rd., at Rock Brook, Mongomery, 00000960

NEW YORK

Rensselaer County

Blink Bonnie, 1368 Sunset Rd., Schodack, 00000958

OHIO

Columbiana County

Teegarden—Centennial Covered Bridge, Eagleton Rd. T-761, 0.1 mi E of C-411, Salem, 00000961

Cuyahoga County

Olmsted Falls Depot, 25802 Garfield Rd., Olmsted Falls, 00000963

Summit County

Northfield Town Hall, 9546 Brandywine Rd., Northfield, 00000962

PENNSYLVANIA

Erie County

Erie Trust Company Building, 1001 State St., Erie, 00000967

Fulton County

Cold Spring Farm, 323 Lions Park Dr., McConnellsburg, Todd, 00000966

Greene County

Gordon, George W., Farm, 333 Mary Hoge Rd., 0.3 mi. SW of Gordon Hill, Franklin, 00000965

Mercer County

Greenville Commercial Historic District, Centered on Main, Canal and Clinton Sts., Greenville, 00000964

WASHINGTON

Ferry County

Fairweather—Trevitt House, 645 Kaufman, Republic, 00000975

King County

Colvos Store, 123rd Ave. SW and Cove Rd., Vashon, 00000970

Pirate (R-Class Sloop), 1010 Valley St., Seattle, 00000968

Skykomish Historic Commercial District, Railroad Ave., from 3rd St. to W of N 6th St., and part of Old Cascade Hwy., Skykomish, 00000974

Steen, Helmer and Selma, House, 10924 SW Cove Rd., Vashon, 00000976

Trommald Building, 1523-1525 Cole St., Enumclaw, 00000972

Vashon Hardware Store, 17601 99th Ave. SW, Vashon, 00000971

Pierce County

Wilkeson Arch, WA 165, Church St. and Brierhill Blvd., Wilkeson, 00000973

Spokane County

Bump Block—Bellevue House—Hawthorne Hotel, (Single Room Occupancy Hotel's in the Central Business District of Spokane MPS) S 206 Post St., Spokane, 00000977

Roosevelt Apartments, 524 W. Seventh Ave., Spokane, 00000969

WISCONSIN

Dane County

West Main Street Historic District, Roughly bounded by S. Fairchild St., W. Main St., S. Carroll St., and W. Doty St., Madison, 00000914

Ozaukee County

Jahn, William F., Farmstead, 12112-12116 N. Wauwatosa Rd., Mequon, 00000978

[FR Doc. 00-18689 Filed 7-24-00; 8:45 am]

BILLING CODE 4310-70-P